DEPARTMENT OF ENERGY

Federal Energy Regulatory Commission

[Docket No. CP21-134-000]

Transcontinental Gas Pipe Line Company, LLC; Notice of Schedule for Environmental Review of the Happytown Abandonment Project

On April 8, 2021, Transcontinental Gas Pipe Line Company, LLC filed an application in Docket No. CP21-134-000 requesting authorization pursuant to Section 7(b) of the Natural Gas Act to abandon certain natural gas pipeline facilities. The proposed project is known as the Happytown Abandonment Project (Project) and would involve abandoning pipeline segments totaling approximately 29.6 miles, as well as appurtenant facilities. The Project would abandon inactive facilities, which would have no impact on Transco's operations and the ability of Transco's Mainlines A, B, and C to provide natural gas service.

On April 22, 2021, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 7, 2022

90-day Federal Authorization Decision Deadline—April 7, 2022

If a schedule change becomes necessary, additional notice will be provided so that the relevant agencies are kept informed of the Project's progress.

Project Description

Transco proposes to abandon approximately 29.6 miles of pipeline comprising of 8-, 10-, and 12-inch-diameter pipeline segments in Pointe Coupée Parish, Louisiana. Of the 29.6 miles, approximately 28.8 miles would be abandoned in place, and the remaining 0.8 mile of pipeline would be abandoned by removal. Additionally, Transco would remove meter stations 2040, 2328, 3267, and 2327 also located in Pointe Coupée Parish. According to Transco, the facilities proposed to be abandoned have not been utilized in over a year and are not expected to be used in the future.

Background

On August 19, 2021, the Commission issued a Notice of Scoping Period Requesting Comments on Environmental Issues for the Proposed Happytown Abandonment Project (NOS). The NOS was sent to affected landowners; federal, state, and local government agencies; elected officials; environmental and public interest groups; Native American tribes; other interested parties; and local libraries and newspapers. In response to the NOS, the Commission received comments from the U.S. Environmental Protection Agency, the Alabama-Coushatta Tribe of Texas, the Choctaw Nation of Oklahoma, and a Mr. Dave F. Butler. The primary issues raised by the commentors are environmental justice and concern regarding the Louisiana black bear. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-134), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 15, 2021.
Kimberly D. Bose,
Secretary.

[FR Doc. 2021-22968 Filed 10-20-21; 8:45 am]

BILLING CODE 6717-01-P